SMALL BUSINESS ADMINISTRATION

Public Federal Regulatory Enforcement Fairness Hearing; Region VI Regulatory Fairness Board

The U.S. Small Business Administration (SBA) Region VI Regulatory Fairness Board and the SBA Office of the National Ombudsman will hold a National Regulatory Fairness Hearing on Tuesday, January 22, 2008, at 10 a.m. The forum will take place at the Austin City Hall Chamber—Room 1001, 301 W. 2nd Street, Austin, TX 78701. The purpose of the meeting is for Business Organizations, Trade Associations, Chambers of Commerce and related organizations serving small business concerns to report experiences regarding unfair or excessive Federal regulatory enforcement issues affecting their members.

Anyone wishing to attend or to make a presentation must contact Lucy Salinas, in writing or by fax in order to be placed on the agenda. Lucy Salinas, Business Development Specialist, SBA, San Antonio District Office, 17319 San Pedro, Suite 200, San Antonio, TX 78232-1411, phone (210) 403-5921 and fax (202) 481-4228, e-mail: Lucille.salinas@sba.gov.

For more information, see our Web site at http://www.sba.gov/ombudsman.

Cherylyn H. Lebon,
Committee Management Officer.

[FR Doc. E8-483 Filed 1-14-08; 8:45 am]

BILLING CODE 8025-01-P